DEPARTMENT OF THE INTERIOR

Bureau of Land Management

[ES-020-01-1610-DU]

Notice of Availability of the Draft Planning Analysis for Arkansas and Louisiana

AGENCY: Bureau of Land Management, Department of the Interior.

ACTION: Notice of availability.

SUMMARY: The Bureau of Land Management (BLM) has prepared a Draft Planning Analysis and Environmental Assessment (PA/EA) for public domain lands in Arkansas and Louisiana. The PA/EA describes and analyzes alternatives for future management of approximately 575 acres in Arkansas and 378 acres in Louisiana. These public lands are isolated tracts in seven counties in Arkansas and four parishes in Louisiana. The affected counties in Arkansas are: Baxter, Cleburne, Crawford, Fulton, Pike, Searcy and Van Buren. The affected parishes in Louisiana are: Desoto, Natchitoches, Rapides and St. Martin. Split-estate minerals are not included in this PA/EA. These documents were prepared to fulfill the requirements of the Federal Land Policy and Management Act of 1976 (FLPMA) and the National Environmental Policy Act of 1969 (NEPA).

DATES: Written comments on the Draft PA/EA must be submitted or postmarked no later than September 5, 2001. Comments may also be presented at a public meeting to be held at 7 p.m. on Thursday, August 23, 2001 at the Civic Center Gymnasium in Marshall, Arkansas. Copies of the draft PA/EA may be obtained from the Jackson Field Office, 411 Briarwood Drive, Suite 404, Jackson, MS 39206. Copies will be available for review at the public library in the seat of government in each county or parish with lands included in the PA/EA. Also, the document may be reviewed on the Internet at www.es.blm.gov/jfo/pages/lupj.html.

ADDRESSES: Written comments should be addressed to Attn: PA/EA Team, Bureau of Land Management, Jackson Field Office, 411 Briarwood Drive, Suite 404, Jackson, MS 39206.

FOR FURTHER INFORMATION CONTACT: Duane Winters, phone (601) 977-5400.

SUPPLEMENTARY INFORMATION: The issues addressed in the Draft PA/EA are: (1) Land Ownership Adjustments and (2) Special Management Areas. All of the BLM-administered public domain tracts in Arkansas and Louisiana are small and isolated, and, therefore, might be considered suitable for disposal. On the other hand, these tracts may have resources of value that should be retained in public ownership and managed by BLM or other agencies. These resources would include sites eligible for listing on the National Register of Historic Places, endangered species, threatened habitats, minerals, or potential for recreational use. The Draft PA/EA presents alternatives with different answers to the following questions: What tracts should be retained in public ownership? What tracts should BLM dispose through sale, exchange, or other means? What tracts should be identified for special management to protect or enhance specific resources? And how should the resources be managed? The alternatives being considered can be summarized as: (1) No Action or Custodial Management, (2) Disposal, and (3) Management through Partnerships. Under the Custodial Management alternative, the BLM would retain the tracts, but would not pro-actively manage them. There would be no actions taken to manage habitats or other resources. When presented to BLM, applications for use would be evaluated on a case-by-case basis. Because this alternative would essentially be a continuation of the current management approach, it is also referred to as the No Action alternative. With the Disposal alternative, BLM would pursue transfer of the tracts out of Federal ownership through various means including sale, exchange or conveyance under the Recreation and Public Purposes Act. In a sale or exchange, priority would be given to transferring the tracts to adjacent land owners. Disposal of tracts with high resource values would be allowed, but only with restrictive easements to protect the resources. In the Partnership alternative, resource management objectives are developed for each tract. These objectives include the desired conditions, such as type of habitat and recreational opportunity. BLM would actively seek partners, and with their cooperation, develop site specific implementation plans to identify needed management actions. Transfer to other Federal agencies, or conveyance under the Recreation and Public Purposes Act would be allowed, but only for uses primarily directed to attaining the management objectives. In the Draft PA/EA the preferred alternative for three of the tracts in Arkansas is (2) Disposal. The preferred alternative for all other tracts in Arkansas and all four tracts in Louisiana is (3) Management Through Partnerships.

Dated: July 19, 2001.
Gayle F. Gordon,
State Director, Eastern States.

[FR Doc. 01-19660 Filed 8-3-01; 8:45 am]

BILLING CODE 4310-GJ-P